DEPARTMENT OF COMMERCE

National Oceanic and Atmospheric Administration

Implementation of New Gulf Coast Ecosystem Restoration Science, Observation, Monitoring, and Technology Program

AGENCY: National Ocean Service (NOS), National Oceanic and Atmospheric Administration (NOAA), Department of Commerce (DOC).

ACTION: Notice; implementation of competitive research program.

SUMMARY: NOAA announces the implementation, under the authority of the Resources and Ecosystem Sustainability, Tourist Opportunities, and Revived Economies of the Gulf Coast States Act (RESTORE Act) of 2012, of a new competitive science program to ensure the long-term sustainability of the Gulf of Mexico ecosystem and the communities that depend on it.

FOR FURTHER INFORMATION CONTACT: Russ Beard, Acting Program Director, Gulf Coast Ecosystem Restoration Science, Observation, Monitoring, and Technology Program, National Centers for Coastal Ocean Science, NOS.

Email: NOAARestoreScience@noaa.gov.

Phone: 228.688.2936.

Mailing Address: 1021 Balch Boulevard, Suite 1003, Stennis Space Center, MS 39529.

SUPPLEMENTARY INFORMATION:

I. Introduction

The Resources and Ecosystem Sustainability, Tourist Opportunities, and Revived Economies of the Gulf Coast States Act (RESTORE Act) of 2012 authorized the establishment of a science, observation, monitoring and technology program on ecosystem restoration (RESTORE Act Science Program). Under Section 1604 of the RESTORE Act, the National Oceanic and Atmospheric Administration (NOAA) has been designated with responsibilities to establish the Program which is to be funded by 2.5% of the Gulf Coast Ecosystem Restoration Trust Fund plus twenty-five percent of the Trust Fund accrued interest.

II. Program Administration

The Program will be housed within the National Ocean Service's National Center for Coastal Ocean Science (NCCOS). NCCOS's experience running competitive science programs focused on pressing coastal and ocean issues, its experience working in the Gulf of Mexico, and its demonstrated ability to transfer research results to resource managers makes it a logical home for the Program. In addition, NOAA established an Executive Oversight Board consisting of senior executives representing each of the NOAA Line Offices, as well as a senior executive from the US Fish and Wildlife Service, to oversee continuing development and implementation of the program, provide strategic and programmatic guidance to a Program Support Team and eventual approval of the Science and Engagement Plans developed by the Support Team. The Program and the Executive Oversight Board will consult with the RESTORE Act Council, science advisory bodies that may be established pursuant to the Act, and other entities as deemed appropriate by NOAA or the Department of Commerce.

III. Guiding Principles, Goals and Focus Areas

The RESTORE Act Science Program, including development of a Science Plan, will be guided by a suite of principles, including:

1. Requiring an ecosystem approach, considering the entirety and connectivity of the system;

2. Integrating and building on existing research, monitoring, and modeling efforts and plans (e.g., NRDA science, Gulf of Mexico States' Centers of Excellence, Gulf of Mexico Research Initiative, Gulf Coast Ecosystem Restoration Strategy and associated Science Needs Assessment);

3. Leveraging partnerships established among federal, state, academics, and NGOs, and develop new partnerships as appropriate;

4. Working within a management and policy framework developed with other entities in the Gulf, including USFWS, the Commission, and FMC; and

5. Designing a scalable and modular approach that adapts to funding availability, defines the unique roles and responsibilities of NOAA and avoids duplication with federal, state, academic, and NGO activities or NRDA science efforts.

Numerous documents have been developed in recent years that identify science needs in the Gulf of Mexico. Many of these documents were produced with extensive stakeholder input and in consultation with resource managers throughout the Gulf states. In development of the Goals for this program these documents were referenced to ensure high priority and recurring needs were captured. The DRAFT goals presented here were constructed to be responsive to Section 1604 of the Act and consistent with science needs identified previously in the region. The RESTORE Act Science Program will enable the collection and dissemination of scientific information to better inform decision making related to the following DRAFT goals:

1. Support Healthy, Diverse and Resilient Coastal Habitats

2. Support Healthy, Diverse and Sustainable Living Coastal and Marine Resources

3. Support Sustainably Managed Fisheries

4. Support Healthy and Well-managed Offshore Environments

5. Support Healthy, Sustainable, and Resilient Coastal Communities able to adapt to a changing environment.

Focusing the activities supported by this program will help ensure that the science, observation, monitoring, and technology advancement are coordinated, complement existing and future science efforts supported and implemented collaboratively, and address in an integrated and holistic manner the critical knowledge needed for Gulf of Mexico ecosystem restoration and management. The Focus areas do not define specific science needs, but rather encompass a suite of approaches of scientific study which, when taken together, will meet the desired outcome of improved holistic understanding of the Gulf of Mexico ecosystem. The focus areas are:

• Periodic “State of health” assessments for the Gulf, incorporating environmental, socio-economic, and human well-being information

• Integrated analysis and synthesis of data—Synthesis and analysis of existing and new data to understand interconnections, inform ecosystem perspective, and produce policy-relevant information

• Ecosystem processes, functioning and connectivity through integrative field/laboratory efforts to provide foundational information to support restoration planning and implementation and fisheries science

• Holistic approaches to observing and monitoring that encompass the next generation of observing and monitoring technologies, including those for fisheries and other natural resources, and data integration tools focused on the observing needs in the Gulf of Mexico

IV. Program Consultation and Coordination

Section 1604 of the RESTORE Act specifies that NOAA shall coordinate with the US Fish and Wildlife Service, and with “other existing Federal and State science and technology programs in the States of Alabama, Florida, Louisiana, Mississippi, and Texas, as well as between the Centers of Excellence.” The Act also requires that NOAA consult with the Gulf of Mexico Fishery Management Council and Gulf States Marine Fisheries Commission “in carrying out the program”. Although such a provision is not included in the guidance to the Centers of Excellence under Section 1605, or in the criminal settlement agreements funding science programs for the National Academy of Sciences, these and other groups also have acknowledged the need for coordination.

The USFWS was an active partner during the program development process and they continue to engage fully on the Executive Oversight Board and on engagement and science planning working groups. During the program development, NOAA reached out to both the Regional Gulf of Mexico Fishery Management Council and the Gulf States Marine Fisheries Commission for their input and feedback to the process. NOAA will continue direct consultation with both the Commission and the Council as it develops and executes the program.

Additionally, several other groups have or are anticipated to receive funding as a result of the Deepwater Horizon oil spill. NOAA believes that it is imperative that all recipients of settlement funds derived from the spill money coordinate science activities to maximize the benefit to the environment and people of the Gulf of Mexico. As the RESTORE Act Science Program is implemented, NOAA will continue to actively engage partners, stakeholders and the public.

V. Next Steps

Development of the Program will be guided by application of the language of the Act to the science needs of the region as described by resource managers, researchers, residents, and other stakeholders. Given that the amount of funds to be made available and the science priorities of other programs established under the Act have yet to be defined, NOAA envisions that its science investments will evolve over time, adapting to changing information and knowledge. As noted previously, considerable work to identify science needs has been conducted in the region and provides an opportune starting point to frame an investment strategy. With additional engagement of partners in the region, NOAA will develop a science plan that seeks to achieve a holistic understanding of the Gulf of Mexico ecosystem that will contribute significantly to the science needed for the long-term sustainability of the Gulf of Mexico ecosystem, including its fisheries, and help inform restoration and management efforts.

NOAA is following a series of steps to implement the Program including:

• Conducting a review and assessment of science needs to support sustainability of the Gulf of Mexico ecosystem that have been determined previously;

• Developing a Science Plan framework that describes the program and lists a set of draft Goals for consideration to assist engagement with partners and stakeholders;

• Engaging partners to identify and prioritize ecosystem and management science requirements and gaps, including but not limited to coordination with other Trust Fund recipients;

• Identifying strategic early investments to assist the integration and synthesis of science priorities and to address known priority gaps;

• Conducting competitive processes for issuing awards for addressing the science needs;

• Continuing refinement of Science plan in coordination with partners through the life of the Program.

NOAA anticipates being able to issue a focused Federal Funding Opportunity (FFO)sometime in Fall/Winter, 2013, contingent upon the regulations governing the Trust Fund being finalized. The FFO will be targeted towards focused areas of investment derived from reviews of existing plans and engagement efforts with Gulf stakeholders being conducted this summer. This FFO will be announced through the Federal Register and grants.gov. Future FFOs will be announced on grants.gov.

VI. Additional Information

Additional information on the Program, the draft science framework, and engagement opportunities can be found on the Program Web site: restoreactscienceprogram.noaa.gov.

Dated: August 12, 2013.
Mary C. Erickson,
Director, National Centers for Coastal Ocean Science, National Ocean Service.

[FR Doc. 2013-19946 Filed 8-15-13; 8:45 am]

BILLING CODE 3510-JE-P